DEPARTMENT OF ENERGY

Federal Energy Regulatory Commission

Combined Notice of Filings #1

June 14, 2006.

Take notice that the Commission received the following electric corporate filings:

Docket Numbers: EC06-99-000.

Applicants: Tor Power, LLC; Tyr Energy, LLC; Lincoln Generating Facility, LLC; Green Country Energy, LLC.

Description: Tyr Energy, LLC, Green Country Energy, LLC et al. submit an amendment to their application to provide a description of their reorganization.

Filed Date: 06/06/2006.

Accession Number: 20060609-0045.

Comment Date: 5 p.m. Eastern Time on Friday, June 23, 2006.

Take notice that the Commission received the following electric rate filings:

Docket Numbers: ER02-298-003; EL05-111-000.

Applicants: Thompson River Co-Gen, LLC.

Description: Thompson River Co-Gen, LLC submits its revised updated market power analysis to include the generation power market screens.

Filed Date: 05/30/2006.

Accession Number: 20060606-0453.

Comment Date: 5 p.m. Eastern Time on Tuesday, June 20, 2006.

Docket Numbers: ER03-534-002.

Applicants: Ingenco Wholesale Power, L.L.C.

Description: Ingenco Wholesale Power, LLC submits its triennial market power update analysis pursuant to Commission order issued 3/24/03.

Filed Date: 04/27/2006.

Accession Number: 20060427-5031.

Comment Date: 5 p.m. Eastern Time on Wednesday, June 21, 2006.

Docket Numbers: ER03-774-003.

Applicants: Eagle Energy Partners I, L.P.

Description: Eagle Energy Partners I, LP submits its updated power market analysis pursuant to the Commission's order issued 6/11/03.

Filed Date: 06/12/2006.

Accession Number: 20060614-0110.

Comment Date: 5 p.m. Eastern Time on Monday, July 3, 2006.

Docket Numbers: ER03-796-004.

Applicants: Katahdin Paper Company LLC.

Description: Katahdin Paper Co LLC submits its triennial market power analysis in compliance with Commission's order.

Filed Date: 06/12/2006.

Accession Number: 20060614-0109.

Comment Date: 5 p.m. Eastern Time on Monday, July 3, 2006.

Docket Numbers: ER04-805-005.

Applicants: Wabash Valley Power Association, Inc.

Description: Wabash Valley Power Association Inc submits its notice of non-material change in status in compliance with the requirements adopted by FERC in Order 652.

Filed Date: 05/30/2006.

Accession Number: 20060602-0332.

Comment Date: 5 p.m. Eastern Time on Tuesday, June 20, 2006.

Docket Numbers: ER05-1502-003.

Applicants: California Independent System Operator Corporation.

Description: California Independent System Operator Corp submits its compliance filing pursuant to FERC's 5/12/06 Order.

Filed Date: 06/12/2006.

Accession Number: 20060614-0112.

Comment Date: 5 p.m. Eastern Time on Monday, July 3, 2006.

Docket Numbers: ER06-436-001.

Applicants: Avista Corporation.

Description: Avista Corporation submits Non-Conforming Agreements under its OATT, Volume 8 consisting of twelve Network Integration Transmission Service Agreements with Bonneville Power Administration.

Filed Date: 06/09/2006.

Accession Number: 20060614-0080.

Comment Date: 5 p.m. Eastern Time on Friday, June 30, 2006.

Docket Numbers: ER06-723-002.

Applicants: California Independent System Operator Corporation.

Description: California Independent System Operator Corp submits its revised Interim Reliability Requirements Program pursuant to FERC's 5/12/06 Order.

Filed Date: 06/12/2006.

Accession Number: 20060614-0111.

Comment Date: 5 p.m. Eastern Time on Monday, July 3, 2006.

Docket Numbers: ER06-731-002.

Applicants: Midwest Independent Transmission System Operator, Inc.

Description: Midwest Independent Transmission System Operator, Inc submits revisions to Module D of its OAT&EM Tariff.

Filed Date: 06/08/2006.

Accession Number: 20060612-0215.

Comment Date: 5 p.m. Eastern Time on Thursday, June 29, 2006.

Docket Numbers: ER06-959-001.

Applicants: Vermont Electric Cooperative, Inc.

Description: Vermont Electric Cooperative, Inc. submits a letter clarifying its 5/24/06 letter and a list of the tariffs that should be withdrawn, pursuant to Commission's amendment to section 201(f) of the Federal Power Act.

Filed Date: 05/26/2006.

Accession Number: 20060526-5008.

Comment Date: 5 p.m. Eastern Time on Wednesday, June 21, 2006.

Docket Numbers: ER06-1118-000.

Applicants: ECP Energy, LLC.

Description: ECP Energy, LLC submits an application for order accepting initial tariff, waiving regulations and granting blanket approvals.

Filed Date: 06/08/2006.

Accession Number: 20060612-0216.

Comment Date: 5 p.m. Eastern Time on Thursday, June 29, 2006.

Docket Numbers: ER06-1119-000.

Applicants: San Diego Gas & Electric Company.

Description: San Diego Gas & Electric Co submits First Revised Sheet 130 et al to Rate Schedule FERC 14, Reliability Must Run Service Agreement with California Independent System Operator Corp.

Filed Date: 06/08/2006.

Accession Number: 20060614-0071.

Comment Date: 5 p.m. Eastern Time on Thursday, June 29, 2006.

Docket Numbers: ER06-1120-000.

Applicants: Midwest Independent Transmission System Operator, Inc.

Description: Midwest Independent Transmission System Operator, Inc supplements its 3/10/06 filing with signature pages, Original Sheet Number 39.

Filed Date: 06/08/2006.

Accession Number: 20060614-0072.

Comment Date: 5 p.m. Eastern Time on Thursday, June 29, 2006.

Docket Numbers: ER06-1121-000.

Applicants: American Electric Power Service Corporation; Ohio Power Company.

Description: Ohio Power Co submits its notice of cancellation of its Amended Interconnection Agreement and Operation Agreement, Second Revised Service Agreement 433, Electric Tariff Third Revised Volume 6, with Lawrence Energy Center, LLC.

Filed Date: 06/09/2006.

Accession Number: 20060614-0073.

Comment Date: 5 p.m. Eastern Time on Friday, June 30, 2006.

Docket Numbers: ER06-1122-000.

Applicants: High Trail Wind Farm, LLC.

Description: High Trail Wind Farm, LLC submits a petition for order accepting market-based rate schedule for filing and granting waivers and blanket approvals.

Filed Date: 06/09/2006.

Accession Number: 20060614-0074.

Comment Date: 5 p.m. Eastern Time on Friday, June 30, 2006.

Docket Numbers: ER06-1123-000.

Applicants: American Electric Power System; Ohio Power Company.

Description: Ohio Power Co submits its notice of cancellation of its Amended Interconnection Agreement and Operation Agreement, Second Revised Service Agreement 516, Electric Tariff Third Revised Volume 6, with Lawrence Energy Center, LLC.

Filed Date: 06/09/2006.

Accession Number: 20060614-0075.

Comment Date: 5 p.m. Eastern Time on Friday, June 30, 2006.

Docket Numbers: ER06-1124-000.

Applicants: Kentucky Utilities Company.

Description: Kentucky Utilities Co submits a request for an extension of its contract term for an Interconnection Agreement with Eastern Kentucky Power Cooperative.

Filed Date: 06/09/2006.

Accession Number: 20060614-0090.

Comment Date: 5 p.m. Eastern Time on Friday, June 30, 2006.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-9978 Filed 6-23-06; 8:45 am]

BILLING CODE 6717-01-P